DEPARTMENT OF AGRICULTURE

Agricultural Marketing Service

[Doc. No. AMS-FGIS-19-0059]

Grain Inspection Advisory Committee Meeting

AGENCY: Agricultural Marketing Service, USDA.

ACTION: Notice.

SUMMARY: Pursuant to the Federal Advisory Committee Act, this constitutes notice of the upcoming meeting of the Agricultural Marketing Service (AMS) Grain Inspection Advisory Committee (Advisory Committee). The Advisory Committee meets no less than once annually to advise the AMS on the programs and services delivered under the U.S. Grain Standards Act. Recommendations by the Advisory Committee help AMS better meet the needs of its customers who operate in a dynamic and changing marketplace. The realignment of offices within the U.S. Department of Agriculture authorized by the Secretary's Memorandum dated November 14, 2017, eliminates the Grain Inspection, Packers and Stockyards Administration (GIPSA) as a standalone agency. The grain inspection activities formerly part of GIPSA are now organized under AMS.

DATES: August 15, 2019, 8:00 a.m. to 4:30 p.m. & August 16, 2019, 8:00 a.m. to 12:00 p.m.

ADDRESSES: The Advisory Committee meeting will take place at the AMS National Grain Center, 10383 N. Ambassador Drive, Kansas City, Missouri 64153.

Requests to orally address the Advisory Committee during the meeting or written comments to be distributed during the meeting may be sent to: Kendra Kline, AMS-FGIS, U.S. Department of Agriculture, 1400 Independence Avenue SW, STOP 3614, Washington, DC 20250-3601. Requests and comments may also be emailed to Kendra.C.Kline@usda.gov.

FOR FURTHER INFORMATION CONTACT: Kendra Kline by phone at (202) 690-2410 or by email at Kendra.C.Kline@usda.gov.

SUPPLEMENTARY INFORMATION: The purpose of the Advisory Committee is to provide advice to AMS with respect to the implementation of the U.S. Grain Standards Act (7 U.S.C. 71-87k). Information about the Advisory Committee is available on the AMS website at https://www.ams.usda.gov/about-ams/facas-advisory-councils/giac.

The agenda will include updates on resolutions from the September 2018 meeting, a general program update, an update on AMS rulemaking activities, discussion of organic labeling on Federal Grain Inspection Service (FGIS) documents, an update and discussion on boundary exceptions, a discussion on the implementation of the FGIS-Food and Drug Administration memorandum of understanding, and a review and discussion on the policy and procedural manual that will set forth guidelines for the Advisory Committee.

Public participation will be limited to written statements and interested parties who have registered to present comments orally to the Advisory Committee. If interested in submitting a written statement or presenting comments orally, please contact Kendra Kline at the telephone number or email listed above. Oral commenting opportunities will be first come, first serve. The meeting will be open to the public.

Persons with disabilities who require alternative means of communication of program information or related accommodations should contact Kendra Kline at the telephone number or email listed above.

Dated: July 24, 2019.
Erin Morris,
Associate Administrator, Agricultural Marketing Service.

[FR Doc. 2019-16079 Filed 7-29-19; 8:45 am]

BILLING CODE 3410-02-P